DEPARTMENT OF COMMERCE

International Trade Administration

North American Free-Trade Agreement, Article 1904; NAFTA Panel Reviews; Notice of Completion of Panel Review

AGENCY: NAFTA Secretariat, United States Section, International Trade Administration, Department of Commerce.

ACTION: Notice of Completion of Panel Review of the final injury determination of the United States International Trade Commission respecting Oil Country Tubular Goods from Mexico, Secretariat File No. USA/MEX-2001-1904-06.

SUMMARY: Pursuant to the Order of the Binational Panel dated March 22, 2007, the determination described above was completed on March 22, 2007.

FOR FURTHER INFORMATION CONTACT: Caratina L. Alston, United States Secretary, NAFTA Secretariat, Suite 2061, 14th and Constitution Avenue, Washington, DC 20230, (202) 482-5438.

SUPPLEMENTARY INFORMATION: On March 22, 2007, the Binational Panel issued an order which affirmed the final injury determination of the United States International Trade Commission (“ITC”) concerning Oil Country Tubular Goods from Mexico. The Secretariat was instructed to issue a Notice of Completion of Panel Review on the 31st day following the issuance of the Notice of Final Panel Action, if no request for an Extraordinary Challenge was filed. No such request was filed. Therefore, on the basis of the Panel Order and Rule 80 of the Article 1904 Panel Rules, the Panel Review was completed and the panelists discharged from their duties effective March 22, 2007.

Dated: May 3, 2007.
Caratina L. Alston,
United States Secretary, NAFTA Secretariat.

[FR Doc. E7-8832 Filed 5-8-07; 8:45 am]

BILLING CODE 3510-GT-P